NATIONAL ARCHIVES AND RECORDS ADMINISTRATION

36 CFR Part 1260

RIN 3095-AA67

Records Declassification; Correction

AGENCY: National Archives and Records Administration (NARA).

ACTION: Proposed rule; correction.

SUMMARY: NARA published in the Federal Register of February 17, 2000, a proposed revision to our rules concerning records declassification. The zip code in the ADDRESSES section contained a typographical error. This document provides the correct zip code.

DATES: Comments must be received on or before April 17, 2000.

ADDRESSES: Send comments to Regulation Comment Desk, NPLN, Room 4100, National Archives and Records Administration, 8601 Adelphi Road, College Park, Maryland, 20740-6001. You may also fax comments to (301) 713-7270.

FOR FURTHER INFORMATION CONTACT: Nancy Allard or Shawn Morton at (301) 713-7360.

SUPPLEMENTARY INFORMATION: NARA published in the Federal Register of February 17, 2000, a proposed revision to 36 CFR 1260—Declassification. The zip code in the ADDRESSES section contained a typographical error. This document provides the correct zip code.

In the document FR 00-3358, published on February 17, 2000 (65 FR 8077), make the following change. On page 8077, in the second column, change the zip code in the ADDRESS section from “10740” to “20740.”

Dated: February 23, 2000.
Nancy Y. Allard,
Federal Register Liaison.

[FR Doc. 00-4683 Filed 2-25-00; 8:45 am]

BILLING CODE 7515-01-P